DEPARTMENT OF HEALTH AND HUMAN SERVICES

National Institutes of Health

National Eye Institute; Notice of Meeting

Pursuant to section 1009 of the Federal Advisory Committee Act, as amended, notice is hereby given of a meeting of the National Advisory Eye Council.

The meeting will be held as a virtual meeting and will be open to the public as indicated below. Individuals who plan to view the virtual meeting and need special assistance or other reasonable accommodations, should notify the Contact Person listed below in advance of the meeting. The meeting will be videocast and can be accessed from the NIH Videocasting and Podcasting website (https://videocast.nih.gov/watch=56978).

Name of Committee: National Advisory Eye Council.

Date: February 13, 2026.

Time: 9:00 a.m. to 12:30 p.m.

Agenda: Presentation of the NEI Director's report, discussion of NEI programs, and concept clearances.

Address: National Eye Institute, 6700B Rockledge Drive, Bethesda, MD 20892.

Meeting Format: Virtual Meeting.

Contact Person: Hyo-Jung Anna Han, Acting Director, Division of Extramural Activities, National Eye Institute, 6700B Rockledge Drive, Bethesda, MD 20892, anna.han@nih.gov.

Registration is not required to attend this meeting.

Any interested person may file written comments with the committee by forwarding the statement to the Contact Person listed on this notice before the meeting or within 15 days after the meeting. The statement should include the name, address, telephone number and when applicable, the business or professional affiliation of the interested person.

Information is also available on the Institute's/Center's home page: https://www.nei.nih.gov/about/advisory-committees/national-advisory-eye-council-naec, where an agenda and any additional information for the meeting will be posted when available.

(Catalogue of Federal Domestic Assistance Program No. 93.867, Vision Research, National Institutes of Health, HHS)

Dated: January 7, 2026.
Rosalind M. Niamke,
Program Analyst, Office of Federal Advisory Committee Policy.

[FR Doc. 2026-00301 Filed 1-9-26; 8:45 am]

BILLING CODE 4140-01-P